DEPARTMENT OF THE TREASURY

Internal Revenue Service

Agency Information Collection Activities; Comment Request on U.S. Individual Income Tax Returns and Related Forms, Schedules, Attachments, and Published Guidance

AGENCY: Internal Revenue Service (IRS), Treasury.

ACTION: Notice of Information Collection; request for comments.

SUMMARY: In accordance with the Paperwork Reduction Act of 1995, the IRS is inviting comments on the information collection request outlined in this notice.

DATES: Written comments should be received on or before September 15, 2025 to be assured of consideration.

ADDRESSES: Direct all written comments to Andres Garcia, Internal Revenue Service, Room 6526, 1111 Constitution Avenue NW, Washington, DC 20224, or by email to pra.comments@irs.gov. Include “OMB Control No. 1545-0074” in the subject line of the message.

FOR FURTHER INFORMATION CONTACT: View the latest drafts of the tax forms related to the information collection listed in this notice at https://www.irs.gov/draft-tax-forms. Requests for additional information or copies of this collection should be directed to Ronald J. Durbala, at (202) 317-5746, at Internal Revenue Service, Room 6526, 1111 Constitution Avenue NW, Washington, DC 20224, or through the internet at RJoseph.Durbala@irs.gov.

SUPPLEMENTARY INFORMATION: The IRS, in accordance with the Paperwork Reduction Act of 1995 (PRA) (44 U.S.C. 3506(c)(2)(A)), provides the public and Federal agencies with an opportunity to comment on proposed, revised, and continuing collections of information. This helps the IRS assess the impact and minimize the burden of its information collection requirements. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Tax Compliance Burden

Tax compliance burden is defined as the time and money taxpayers spend to comply with their tax filing responsibilities. Time-related activities include recordkeeping, tax planning, gathering tax materials, learning about the law and what you need to do, and completing and submitting the return. Out-of-pocket costs include expenses such as purchasing tax software, paying a third-party preparer, and printing and postage. Tax compliance burden does not include a taxpayer's tax liability, economic inefficiencies caused by sub-optimal choices related to tax deductions or credits, or psychological costs.

Proposed PRA Submission to OMB

Title: U.S. Individual Income Tax Returns and Related Forms, Schedules, Attachments, and Published Guidance.

OMB Number: 1545-0074.

Form Numbers: Form 1040 and all related forms, schedules, and attachments.

Abstract: IRC sections 6011 & 6012 of the Internal Revenue Code require individuals to prepare and file income tax returns annually. These forms, schedules, and attachments are used by individuals to report their income tax liability. This information collection covers the burden associated with preparing and submitting individual income tax returns and related forms, schedules, and attachments, and complying with published guidance.

Current Actions: There have been changes in regulatory guidance related to various forms approved under this approval package during the past year. There have been additions and removals of forms included in this approval package. It is anticipated that these changes will have an impact on the overall burden and cost estimates requested for this approval package, however these estimates were not finalized at the time of release of this notice. These estimated figures are expected to be available by the release of the 30-day comment notice from Treasury. This approval package is being submitted for renewal purposes.

Type of Review: Revision of a currently approved collection.

Affected Public: Individuals or Households.

Preliminary Estimated Number of Respondents: 170,100,000.

Preliminary Estimated Time Per Respondent (Hours): 12 hrs. 37 mins.

Preliminary Estimated Total Annual Time (Hours): 2,146,000,000.

Preliminary Estimated Total Annual Monetized Time ($): 47,122,000,000.

Preliminary Estimated Total Out-of-Pockets Costs ($): 50,575,000,000.

Preliminary Estimated Total Monetized Burden ($): 97,697,000,000.

Note: Total Monetized Burden = Out-of-Pocket Costs + Monetized Time

Approved: July 14, 2025.
Ronald J. Durbala,
IRS Tax Analyst.

Appendix-A: Forms and Schedules

Individual Tax Forms
[View the latest drafts of the tax forms related to the information collection listed in this notice at https://www.irs.gov/draft-tax-forms.]
Form No. | Form name | Form No. | Form name
1040 | U.S. Individual Income Tax Return | 7220 | Prevailing Wage and Apprenticeship (PWA) Verification and Corrections.
1040(SP) | U.S Individual Income Tax Return (Spanish version) | 8082 | Notice of Inconsistent Treatment or Administrative Adjustment Request (AAR).
Schedule 1 (1040) | Additional Income and Adjustments to Income | 8275 | Disclosure Statement.
Schedule 1(SP) (1040(SP)) | Additional Income and Adjustments to Income in Spanish | 8275-R | Regulation Disclosure Statement.
Schedule 2 (1040) | Additional Taxes | 8283 | Noncash Charitable Contributions.
Schedule 2(SP) (1040(SP)) | Additional Taxes (Spanish version) | 8332 | Release/Revocation of Release of Claim to Exemption for Child by Custodial Parent.
Schedule 3 (1040) | Additional Credits and Payments | 8379 | Injured Spouse Allocation.
Schedule 3(SP) (1040(SP)) | Additional Credits and Payments (Spanish version) | 8396 | Mortgage Interest Credit.
1040-C | U.S. Departing Alien Income Tax Return | 8404 | Interest Charge on DISC-Related Deferred Tax Liability.
1040 X | Amended U.S. Individual Income Tax Return | 8453 | U.S. Individual Income Tax Transmittal for an IRS e-file Return.
1040 NR | U.S. Nonresident Alien Income Tax Return | 8453(SP) | U.S. Individual Income Tax Transmittal for an IRS e-file Return (Spanish version).
1040 NR(SP) | U.S. Nonresident Alien Income Tax Return (Spanish Version) | 8582 | Passive Activity Loss Limitation.
Schedule NEC (1040NR) | Tax on Income Not Effectively Connected with a U.S. Trade or Business | 8582-CR | Passive Activity Credit Limitations.
Schedule NEC(SP) (1040NR(SP)) | Tax on Income Not Effectively Connected with a U.S. Trade or Business (Spanish Version) | 8586 | Low-Income Housing Credit.
Schedule A (1040NR) | Itemized Deductions | 8594 | Asset Acquisition Statement Under Section 1060.
Schedule A(SP) (1040NR(SP)) | Itemized Deductions (Spanish Version) | 8606 | Nondeductible IRAs.
Schedule OI (1040NR) | Other Information | 8609-A | Annual Statement for Low-Income Housing Credit.
Schedule OI(SP) (1040NR(SP)) | Other Information (Spanish Version) | 8611 | Recapture of Low-Income Housing Credit.
Schedule P (1040NR) | Gain or Loss of Foreign Persons from Sale or Exchange of Certain Partnership Interests | 8615 | Tax for Certain Children Who Have Unearned Income.
1040-PR | U.S. Self-Employment Tax Return (Including the Additional Child Tax Credit for Bona Fide Residents of Puerto Rico) (Puerto Rico Version) | 8621 | Information Return by a Shareholder of a Passive Foreign Investment Company or Qualified Electing Fund.
1040-SR | U.S. Tax Return for Seniors | 8621-A | Return by a Shareholder Making Certain Late Elections to End Treatment as a Passive Foreign Investment Company.
1040-SR (SP) | Tax Return for Seniors (Spanish version) | 8689 | Allocation of Individual Income Tax to the U.S. Virgin Islands.
1040-SS | U.S. Self-Employment Tax Return (Including the Additional Child Tax Credit for Bona Fide Residents of Puerto Rico) | 8697 | Interest Computation Under the Look-Back Method for Completed Long-Term Contracts.
1040-SS (SP) | U.S. Self-Employment Tax Return (Including the Additional Child Tax Credit for Bona Fide Residents of Puerto Rico) (Spanish Version) | 8801 | Credit for Prior Year Minimum Tax-Individuals, Estates, and Trusts.
Schedule A (1040) | Itemized Deductions | 8814 | Parents' Election to Report Child's Interest and Dividends.
Schedule B (1040) | Interest and Ordinary Dividends | 8815 | Exclusion of Interest from Series EE and I U.S. Savings Bonds Issued After 1989.
Schedule C (1040) | Profit or Loss from Business | 8818 | Optional Form to Record Redemption of Series EE and I U.S. Savings Bonds Issued After 1989.
Schedule C(SP) (1040(SP)) | Profit or Loss from Business (Spanish Version) | 8820 | Orphan Drug Credit.
Schedule D (1040) | Capital Gains and Losses | 8824 | Like-Kind Exchanges.
Schedule E (1040) | Supplemental Income and Loss | 8826 | Disabled Access Credit.
Schedule EIC (1040) | Earned Income Credit | 8828 | Recapture of Federal Mortgage Subsidy.
Schedule EIC(SP) (1040(SP)) | Earned Income Credit (Spanish version) | 8829 | Expenses for Business Use of Your Home.
Schedule F (1040) | Profit or Loss from Farming | 8833 | Treaty-Based Return Position Disclosure Under Section 6114 or 7701(b).
Schedule F(SP) (1040(SP)) | Profit or Loss from Farming (Spanish Version) | 8834 | Qualified Electric Vehicle Credit.
Schedule H (1040) | Household Employment Taxes | 8835 | Renewable Electricity, Refined Coal, and Indian Coal Production Credit.
Schedule H(SP) (1040(SP)) | Household Employment Taxes (Spanish Version) | 8838 | Consent to Extend the Time to Assess Tax Under Section 367-Gain Recognition Agreement.
Schedule H(PR) (1040) | Household Employment Taxes (Puerto Rico Version) | 8838-P | Consent To Extend the Time To Assess Tax Pursuant to the Gain Deferral Method (Section 721(c)).
Schedule J (1040) | Income Averaging for Farmers and Fishermen | 8839 | Qualified Adoption Expenses.
Schedule LEP (1040) | Request for Change in Language Preference | 8840 | Closer Connection Exception Statement for Aliens.
Schedule LEP (SP) (1040(SP)) | Request for Change in Language Preference (Spanish Version) | 8843 | Statement for Exempt Individuals and Individuals with a Medical Condition.
Schedule R (1040) | Credit for the Elderly or the Disabled | 8844 | Empowerment Zone Employment Credit.
Schedule SE (1040) | Self-Employment Tax | 8845 | Indian Employment Credit.
Schedule SE (SP) (1040(SP)) | Self-Employment Tax (Spanish Version) | 8846 | Credit for Employer Social Security and Medicare Taxes Paid on Certain Employee Tips.
1040 V | Payment Voucher | 8853 | Archer MSA's and Long-Term Care Insurance Contracts.
1040 ES/OCR | Estimated Tax for Individuals (Optical Character Recognition with Form 1040V) | 8854 | Initial and Annual Expatriation Statement.
1040 ES | Estimate Tax for Individuals | 8858 | Information Return of U.S. Persons with Respect to Foreign Disregarded Entities (FDEs) and Foreign Branches (FBs).
1040 ES (NR) | U.S. Estimated Tax for Nonresident Alien Individuals | Schedule M (8858) | Transactions Between Foreign Disregarded Entity (FDE) or Foreign Branch (FB)and the Filer or Other Related Entities.
1040 ES (PR) | Estimated Federal Tax on Self Employment Income and on Household Employees (Residents of Puerto Rico) | 8859 | Carryforward of the District of Columbia First-Time Homebuyer Credit.
Schedule 8812 (1040) | Credits for Qualifying Children and Other Dependents | 8862 | Information to Claim Earned Income Credit After Disallowance.
Schedule 8812(SP) (1040(SP)) | Credits for Qualifying Children and Other Dependents (Spanish version) | 8862(SP) | Information to Claim Earned Income Credit After Disallowance (Spanish Version).
172 | Net Operating Losses (NOLs) for Individuals, Estates, and Trusts | 8863 | Education Credits (American Opportunity and Lifetime Learning Credits).
461 | Limitation on Business Losses | 8864 | Biodiesel and Renewable Diesel Fuels Credit.
673 | Statement for Claiming Exemption from Withholding on Foreign Earned Income Eligible for the Exclusion(s) Provided by Section 911 | 8865 | Return of U.S. Persons with Respect to Certain Foreign Partnerships.
926 | Return by a U.S. Transferor of Property to a Foreign Corporation | Schedule K-1 (8865) | Partner's Share of Income, Deductions, Credits, etc..
965-A | Individual Report of Net 965 Tax Liability | Schedule K-2 (8865) | Partners' Distributive Share Items—International.
965-C | Transfer Agreement Under 965(h)(3) | Schedule K-3 (8865) | Partner's Share of Income, Deductions, Credits, etc. International.
970 | Application to Use LIFO Inventory Method | Schedule O (8865) | Transfer of Property to a Foreign Partnership (Under section 6038B).
972 | Consent of Shareholder to Include Specific Amount in Gross Income | Schedule P (8865) | Acquisitions, Dispositions, and Changes of Interests in a Foreign Partnership.
982 | Reduction of Tax Attributes Due to Discharge of Indebtedness (and Section 1082 Basis Adjustment) | 8866 | Interest Computation Under the Look-Back Method for Property Depreciated Under the Income Forecast Method.
1045 | Application for Tentative Refund | 8867 | Paid Preparer's Due Diligence Checklist.
1098-F | Fines, Penalties and Other Amounts | 8873 | Extraterritorial Income Exclusion.
1116 | Foreign Tax Credit (Individual, Estate, or Trust) | 8874 | New Markets Credit.
1127 | Application for Extension of Time for Payment of Tax Due to Undue Hardship | 8878 | IRS e-file Signature Authorization for Form 4868 or Form 2350.
1128 | Application to Adopt, Change or Retain a Tax Year | 8878 SP | IRS e-file Signature Authorization for Form 4868 or Form 2350 (Spanish Version).
1310 | Statement of Person Claiming Refund Due a Deceased Taxpayer | 8879 | IRS e-file Signature Authorization.
2106 | Employee Business Expenses | 8879 SP | IRS e-file Signature Authorization (Spanish Version).
2120 | Multiple Support Declaration | 8880 | Credit for Qualified Retirement Savings Contributions.
2210 | Underpayment of Estimated Tax by Individuals, Estates, and Trusts | 8881 | Credit for Small Employer Pension Plan Startup Costs.
2210-F | Underpayment of Estimated Tax by Farmers and Fishermen | 8882 | Credit for Employer-Provided Child Care Facilities and Services.
2350 | Application for Extension of Time to File U.S. Income Tax Return | 8886 | Reportable Transaction Disclosure Statement.
2350 SP | Application for Extension of Time to File U.S. Income Tax Return (Spanish Version) | 8888 | Allocation of Refund (Including Savings Bond Purchases).
2441 | Child and Dependent Care Expenses | 8889 | Health Savings Accounts (HSAs).
2555 | Foreign Earned Income | 8896 | Low Sulfur Diesel Fuel Production Credit.
3115 | Application for Change in Accounting Method | 8898 | Statement for Individuals Who Begin or End Bona Fide Residence in a U.S. Possession.
3468 | Investment Credit | 8900 | Qualified Railroad Track Maintenance Credit.
3520 | Annual Return to Report Transactions with Foreign Trusts and Receipt of Certain Foreign Gifts | 8903 | Domestic Production Activities Deduction.
3520-A | Annual Information Return of Foreign Trust With a U.S. Owner | 8906 | Distilled Spirits Credit.
3800 | General Business Credit | 8908 | Energy Efficient Home Credit.
Schedule A (3800) | Transfer Election Statement | 8910 | Alternative Motor Vehicle Credit.
3903 | Moving Expenses | 8911 | Alternative Fuel Vehicle Refueling Property Credit.
4070 | Employee's Report of Tips to Employer | Schedule A (8911) | Alternative Fuel Vehicle Refueling Property.
4070A | Employee's Daily Record of Tips | 8912 | Credit to Holders of Tax Credit Bonds.
4136 | Credit for Federal Tax Paid on Fuels | 8915-C | Qualified 2018 Disaster Retirement Plan Distributions and Repayments.
4137 | Social Security and Medicare Tax on Unreported Tip Income | 8915-D | Qualified 2019 Disaster Retirement Plan Distributions and Repayments.
4255 | Recapture of Investment Credit | 8915-F | Qualified Disaster Retirement Plan Distributions and Repayments.
4361 | Application for Exemption from Self-Employment Tax for Use by Ministers, Members of Religious Orders, and Christian Science Practitioners | 8919 | Uncollected Social Security and Medicare Tax on Wages.
4562 | Depreciation and Amortization (Including Information on Listed Property) | 8925 | Report of Employer-Owned Life Insurance Contracts.
4563 | Exclusion of Income for Bona Fide Residents of American Samoa | 8932 | Credit for Employer Differential Wage Payments.
4684 | Causalities and Thefts | 8933 | Carbon Oxide Sequestration Credit.
4797 | Sale of Business Property | Schedule A (8933) | Disposal or Enhanced Oil Recovery Owner Certification.
4835 | Farm Rental Income and Expenses | Schedule B (8933) | Disposal Operator Certification.
4852 | Substitute for Form W-2, Wage and Tax Statement or Form 1099-R, Distributions from Pensions, Annuities, Retirement or Profit-Sharing Plans, IRAs, Insurance Contracts, etc. | Schedule C (8933) | Enhanced Oil Recovery Operator Certification.
4852(SP) | Substitute for Form W-2, Wage and Tax Statement or Form 1099-R, Distributions from Pensions, Annuities, Retirement or Profit-Sharing Plans, IRAs, Insurance Contracts, etc. (Spanish Version) | Schedule D (8933) | Recapture Certification.
4868 | Application for Automatic Extension of Time to File U.S. Individual Income Tax Return | Schedule E (8933) | Election Certification.
4868 SP | Application for Automatic Extension of Time to File U.S. Individual Income Tax Return (Spanish Version) | 8936 | Clean Vehicle Credits.
4952 | Investment Interest Expense Deduction | Schedule A (8936) | Clean Vehicle Credit Amount.
4970 | Tax on Accumulation Distribution of Trusts | 8941 | Credit for Small Employer Health Insurance Premiums.
4972 | Tax on Lump-Sum Distributions | 8949 | Sales and other Dispositions of Capital Assets.
5074 | Allocation of Individual Income Tax to Guam or the Commonwealth of the Northern Mariana Islands (CNMI) | 8958 | Allocation of Tax Amounts Between Certain Individuals in Community Property States.
5213 | Election to Postpone Determination as to Whether the Presumption Applies that an Activity is Engaged in for Profit | 8962 | Premium Tax Credit (PTC).
5329 | Additional Taxes on Qualified Plans (Including IRAs) and Other Tax-Favored Accounts | 8993 | Section 250 Deduction for Foreign Derived Intangible Income (FDII) and Global Intangible Low-Taxed Income (GILTI).
5405 | Repayment of the First-Time Homebuyer Credit | 8994 | Employer Credit for Paid Family and Medical Leave.
5471 | Information Return of U.S. Persons with Respect to Certain Foreign Corporations | 8995 | Qualified Business Income Deduction Simplified Computation.
Schedule J (5471) | Accumulated Earnings and Profits (E&P) of Controlled Foreign Corporations | 8995-A | Qualified Business Income Deduction.
Schedule M (5471) | Transactions Between Controlled Foreign Corporation and Shareholders or Other Related Persons | Schedule A (8995-A) | Specified Service Trades or Businesses.
Schedule O (5471) | Organization or Reorganization of Foreign Corporation, and Acquisitions and Dispositions of its Stock | Schedule B (8995-A) | Aggregation of Business Operations.
5695 | Residential Energy Credits | Schedule C (8995-A) | Loss Netting And Carryforward.
5713 | International Boycott Report | Schedule D (8995-A) | Special Rules for Patrons of Agricultural or Horticultural Cooperatives.
Schedule A (5713) | International Boycott Factor (Section 999(c)(1)) | 9000 | Alternative Media Preference.
Schedule B (5713) | Specifically Attributable Taxes and Income (Section 999(c)(2)) | 9000(SP) | Alternative Media Preference (Spanish Version).
Schedule C (5713) | Tax Effect of the International Boycott Provisions | 9465 | Installment Agreement Request.
5884 | Work Opportunity Credit | 9465 SP | Installment Agreement Request (Spanish Version).
5884-A | Employee Retention Credit | Form T (Timber) | Forest Activities Schedule.
6198 | At-Risk Limitations | W-4 | Employee's Withholding Certificate.
6251 | Alternative Minimum Tax-Individuals | W-4 (SP) | Employee's Withholding Certificate (Spanish Version).
6252 | Installment Sale Income | W-4 (KO) | Employee's Withholding Certificate (Korean Version).
6478 | Biofuel Producer Credit | W-4 (RU) | Employee's Withholding Certificate (Russian Version).
6765 | Credit for Increasing Research Activities | W-4 (VIE) | Employee's Withholding Certificate (Vietnamese Version).
6781 | Gains and Losses from Section 1256 Contracts and Straddles | W-4 (ZH-S) | Employee's Withholding Certificate (Chinese-Simple Version).
7203 | S Corporation Shareholder Stock and Debt Basis Limitations | W-4 (ZH-T) | Employee's Withholding Certificate (Chinese-Traditional Version).
7204 | Consent to Extend the Time to Assess Tax Related to Contested Foreign Income Taxes-Provisional Foreign Tax Credit Agreement | W—4 P | Withholding Certificate for Pension or Annuity Payments.
7205 | Energy Efficient Commercial Buildings Deduction | W-4 S | Request for Federal Income Tax Withholding from Sick Pay.
7206 | Self-Employed Health Insurance Deduction | W-4 V | Voluntary Withholding Request.
7207 | Advanced Manufacturing Production Credit | W-4 R | Withholding Certificate for Retirement Payments Other Than Pensions or Annuities.
7210 | Clean Hydrogen Production Credit | W-7 | Application for IRS Individual Taxpayer Identification Number.
7211 | Clean Electricity Production Credit | W-7 A | Application for Taxpayer Identification Number for Pending U.S. Adoptions.
7213 | Nuclear Power Production Credit | W-7 (SP) | Application for IRS Individual Taxpayer Identification Number (Spanish Version).
7217 | Partner's Report of Property Distributed by a Partnership | W-7 (COA) | Certificate of Accuracy for IRS Individual Taxpayer Identification Number.
7218 | Clean Fuel Production Credit | 15620 | Section 83(b) Election.

Appendix-B: Guidance Documents

Document | Title | Document | Title
Notice 2006-52 | Deduction for Energy Efficient Commercial Buildings | TD 9764 | Section 6708 Failure To Maintain List of Advisees With Respect to Reportable Transactions.
Notice 2008-40 | Amplification of Notice 2006-52; Deduction for Energy Efficient Commercial Buildings | TD 9408 | Dependent Child of Divorced or Separated Parents or Parents Who Live Apart.
Notice 2023-59 | Guidance on Requirements for Home Energy Audits for Purposes of the Energy Efficient Home Improvement Credit under Section 25C | TD 9902 | Guidance Under Sections 951A and 954 Regarding Income Subject to a High Rate of Foreign Tax.
Notice 2024-60 | Required Procedures to Claim a Section 45Q Credit for Utilization of Carbon Oxide | TD 9920 | Income Tax Withholding on Certain Periodic Retirement and Annuity Payments Under Section 3405(a).
Publication 972 Tables | Child Tax Credit | TD 9924 | Income Tax Withholding from Wages.
Rev. Proc. 2004-12 | Section 35.—Health Insurance Costs of Eligible Individuals | TD 9959 | Guidance Related to the Foreign Tax Credit; Clarification of Foreign-Derived Intangible Income.
Rev. Proc. 2019-38 | Trade or Business | TD 9993 | Transfer of Certain Credits.
Rev. Proc. 2024-09 | Changes in accounting periods and in methods of accounting | TD 9998 | Increased Amounts of Credit or Deduction for Satisfying Certain Prevailing Wage and Registered Apprenticeship Requirements.
Rev. Proc. 2024-23 | Changes in accounting periods and in methods of accounting | TD 9999 | Statutory Disallowance of Deductions for Certain Qualified Conservation Contributions Made by Partnerships and S Corporations.
TD 8400 | Taxation of Gain or Loss from Certain Nonfunctional Currency Transactions (Section 988 Transactions) | TD 10015 | Definition of Energy Property and Rules Applicable to the Energy Credit.
TD 8865 | Amortization of Intangible Property | TD 10016 | Taxable Income or Loss and Currency Gain or Loss With Respect to a Qualified Business Unit.
TD 9207 | Assumption of Partner Liabilities | TD 10025 | Guidance on Clean Electricity Low-Income Communities Bonus Credit Amount Program.

[FR Doc. 2025-13304 Filed 7-15-25; 8:45 am]

BILLING CODE 4830-01-P